DEPARTMENT OF LABOR

Employment and Training Administration

[TA-W-64,891]

American Pacific, Grove City, OH; Notice of Termination of Investigation

In accordance with Section 221 of the Trade Act of 1974, as amended, an investigation was initiated on January 14, 2009 in response to a petition filed on behalf of workers of American Pacific, Grove City, Ohio.

The petitioning group of workers is covered by an active certification (TA-W-64,093, as amended) which expires on October 20, 2010. Consequently, further investigation in this case would serve no purpose, and the investigation has been terminated.

Signed in Washington, DC, this 13th day of February, 2009.
Richard Church,
Certifying Officer, Division of Trade Adjustment Assistance.

[FR Doc. E9-3735 Filed 2-20-09; 8:45 am]

BILLING CODE 4510-FN-P